DEPARTMENT OF HOMELAND SECURITY

Coast Guard

33 CFR Part 117

[Docket No. USCG-2018-0091]

Drawbridge Operation Regulation; Petaluma River, Haystack Landing (Petaluma), CA

AGENCY: Coast Guard, DHS.

ACTION: Notice of temporary deviation from regulations; request for comments.

SUMMARY: The Coast Guard has issued a temporary deviation from the operating schedule that governs the Northwestern Pacific (SMART) railroad bridge across the Petaluma River, mile 12.4, at Haystack Landing (Petaluma), CA. This deviation will be a second test of a change to the drawbridge operation schedule to determine whether a permanent change to the schedule is appropriate. This test deviation will modify the existing regulation to add an advance notification requirement for obtaining bridge openings.

DATES: This deviation is effective from 6 a.m. on August 20, 2018 to 6 a.m. on October 18, 2018.

Comments and related materials must reach the Coast Guard on or before November 1, 2018.

ADDRESSES: You may submit comments identified by docket number USCG-2018-0091 using Federal eRulemaking Portal at http://www.regulations.gov.

See the “Public Participation and Request for Comments” portion of the SUPPLEMENTARY INFORMATION section below for instructions on submitting comments.

FOR FURTHER INFORMATION CONTACT: If you have questions on this test deviation, call or email Carl T. Hausner, Chief, Bridge Section, Eleventh Coast Guard District; telephone 510-437-3516; email Carl.T.Hausner@uscg.mil.

SUPPLEMENTARY INFORMATION:

I. Background, Purpose and Legal Basis

On March 2, 2018, the Coast Guard published a Test Deviation entitled Petaluma River, Haystack Landing (Petaluma), CA in the Federal Register (83 FR 8936). We received five comments on this rule. Four of the five comments submitted, concerning the test deviation, addressed the 2-hour advance notification. The commenters stated that the lengthy advance notification would be a burden on waterway users. The fifth comment was directed at the structural deficiency of a number of dams in the United States; this comment is not pertinent to this deviation.

Sonoma-Marin Area Rail Transit (SMART) owns the Northwestern Pacific railroad bridge across the Petaluma River, mile 12.4, at Haystack Landing (Petaluma), CA. The bridge has a vertical clearance of 3.6 feet above mean high water in the closed-to-navigation position and unlimited vertical clearance in the open-to-navigation position, and currently operates under 33 CFR 117.187(a).

The duration of this initial test deviation was 90 days. During this initial test, according to drawtender logs, 96 vessels requested openings and passed through the bridge. At no time was a 2-hour notice given to the drawtender and in only one instance was a one-hour advance notice given. In all other instances, a notification of 30 minutes or less was given to the drawtender and the bridge opened for the passage of those vessels. The Coast Guard received five comments, via the Federal eRulemaking Portal, related to the initial test deviation. Four of the five comments indicated the 2-hour notice would be a burden on waterway users.

In order to meet the reasonable needs of navigation, while benefiting rail transportation, the Coast Guard is publishing this alternate temporary deviation to the proposed schedule change to determine whether a permanent change to the schedule is appropriate to better balance the needs of marine and rail traffic.

Under this temporary deviation, in effect from 6 a.m. on August 20, 2018 to 6 a.m. on October 18, 2018, the bridge shall open on signal from 3 a.m. to 11 p.m. if at least 30 minutes notice is given to the drawtender. At all other times, the draw shall be maintained in the fully open position, except for the passage of trains or for maintenance. To request an opening, mariners can contact the drawtender via marine radio VHF-FM channel 16/9 or by telephone at (707) 890-8650. Vessels able to pass through the bridge in the closed position may do so at any time. The bridge will be required to open as soon as practicable for vessels engaged in emergency response. SMART will log dates and times of vessels requesting openings. There are no alternate routes for vessels transiting upstream of the bridge on the Petaluma River.

The Coast Guard will also inform the users of the waterways through our Local and Broadcast Notices to Mariners and through direct outreach to local harbors, marinas, and water-based business of the temporary change in the operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and materials received during the comment period. Your comments can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notice as being available in this docket and all public comments, will be in our online docket at http://www.regulations.gov and can be viewed by following that website's instructions. Additionally, if you go to the online docket and sign up for email alerts, you will be notified when comments are posted or a final rule is published.

Dated: August 7, 2018.
Carl T. Hausner,
District Bridge Chief, Eleventh Coast Guard District.

[FR Doc. 2018-17234 Filed 8-10-18; 8:45 am]

BILLING CODE 9110-04-P